DEPARTMENT OF ENERGY

Federal Energy Regulatory Commission

18 CFR Part 11

[Docket No. RM11-6-000]

Annual Update to Fee Schedule for the Use of Government Lands by Hydropower Licensees

AGENCY: Federal Energy Regulatory Commission, DOE.

ACTION: Final rule.

SUMMARY: In accordance with the Commission's regulations, the Commission, by its designee, the Executive Director, issues this annual update to the fee schedule in the appendix to the part, which lists per-acre rental fees by county (or other geographic area) for use of government lands by hydropower licensees.

DATES:

Effective date: This rule is effective January 29, 2024.

Applicability date: The updates to appendix A to part 11, with the fee schedule of per-acre rental fees by county (or other geographic area), are from October 1, 2023, through September 30, 2024 (Fiscal Year 2024).

FOR FURTHER INFORMATION CONTACT: Raven A. Rodriguez, Financial Management Division Office of the Executive Director, Federal Energy Regulatory Commission, 888 First Street NE, Washington, DC 20426, (202) 502-6276, Raven.Rodriguez@ferc.gov.

SUPPLEMENTARY INFORMATION:

Annual Update to Fee Schedule

Section 11.2 of the Commission's regulations provides a method for computing reasonable annual charges for recompensing the United States for the use, occupancy, and enjoyment of its lands by hydropower licensees.¹ Annual charges for the use of government lands are payable in advance, and are based on an annual schedule of per-acre rental fees published in appendix A to part 11 of the Commission's regulations.² This notice updates the fee schedule in appendix A to part 11 for fiscal year 2024 (October 1, 2023, through September 30, 2024).

¹ Annual Charges for the Use of Government Lands, Order No. 774, 78 FR 5256 (January 25, 2013), FERC Stats. & Regs. ¶ 31,341 (2013).

² 18 CFR part 11 (2018).

Effective Date

This final rule is effective January 29, 2024. The provisions of 5 U.S.C. 804, regarding Congressional review of final rules, do not apply to this final rule because the rule concerns agency procedure and practice and will not substantially affect the rights or obligations of non-agency parties. This final rule merely updates the fee schedule published in the Code of Federal Regulations to reflect scheduled adjustments, as provided for in § 11.2 of the Commission's regulations.

List of Subjects in 18 CFR Part 11

Public lands.

By the Executive Director.
Issued: January 18, 2024.
William Foster,
Chief Financial Officer, Office of the Executive Director.

In consideration of the foregoing, the Commission amends appendix A to part 11, chapter I, title 18, Code of Federal Regulations, as follows.

PART 11—ANNUAL CHARGES UNDER PART I OF THE FEDERAL POWER ACT

1. The authority citation for part 11 is revised to read as follows:

Authority: 16 U.S.C. 792-828c; 42 U.S.C. 7101-7352.

2. Appendix A to part 11 is revised to read as follows:

Appendix A to Part 11—Fee Schedule for FY 2024
State | County | Fee/acre/yr
Alabama | Autauga | $61.84
| Baldwin | 163.30
| Barbour | 62.63
| Bibb | 78.73
| Blount | 101.02
| Bullock | 60.08
| Butler | 68.83
| Calhoun | 119.09
| Chambers | 70.48
| Cherokee | 88.82
| Chilton | 98.98
| Choctaw | 57.50
| Clarke | 63.92
| Clay | 78.73
| Cleburne | 97.04
| Coffee | 73.85
| Colbert | 74.74
| Conecuh | 60.08
| Coosa | 64.28
| Covington | 75.28
| Crenshaw | 69.95
| Cullman | 111.54
| Dale | 84.39
| Dallas | 52.59
| DeKalb | 110.36
| Elmore | 84.03
| Escambia | 68.94
| Etowah | 107.59
| Fayette | 61.87
| Franklin | 68.74
| Geneva | 69.44
| Greene | 54.72
| Hale | 63.39
| Henry | 72.36
| Houston | 99.09
| Jackson | 85.32
| Jefferson | 123.77
| Lamar | 52.14
| Lauderdale | 101.70
| Lawrence | 106.47
| Lee | 116.39
| Limestone | 115.89
| Lowndes | 53.23
| Macon | 65.83
| Madison | 148.82
| Marengo | 56.29
| Marion | 65.60
| Marshall | 124.28
| Mobile | 132.89
| Monroe | 67.20
| Montgomery | 74.60
| Morgan | 123.49
| Perry | 61.93
| Pickens | 70.90
| Pike | 73.48
| Randolph | 88.54
| Russell | 71.27
| Shelby | 111.51
| St. Clair | 119.96
| Sumter | 52.50
| Talladega | 92.81
| Tallapoosa | 80.07
| Tuscaloosa | 94.35
| Walker | 84.67
| Washington | 56.82
| Wilcox | 50.99
| Winston | 77.55
Alaska | Aleutian Islands | 0.94
| Statewide | 50.28
Arizona | Apache | 4.65
| Cochise | 33.93
| Coconino | 3.59
| Gila | 6.58
| Graham | 10.97
| Greenlee | 26.38
| La Paz | 34.11
| Maricopa | 156.29
| Mohave | 14.20
| Navajo | 3.74
| Pima | 8.92
| Pinal | 46.77
| Santa Cruz | 33.74
| Yavapai | 27.94
| Yuma | 156.28
Arkansas | Arkansas | 65.87
| Ashley | 60.50
| Baxter | 56.23
| Benton | 135.42
| Boone | 55.10
| Bradley | 68.71
| Calhoun | 54.16
| Carroll | 57.49
| Chicot | 62.11
| Clark | 50.61
| Clay | 90.10
| Cleburne | 61.42
| Cleveland | 88.47
| Columbia | 48.56
| Conway | 53.12
| Craighead | 96.43
| Crawford | 64.14
| Crittenden | 80.50
| Cross | 70.45
| Dallas | 40.74
| Desha | 68.02
| Drew | 60.48
| Faulkner | 80.27
| Franklin | 53.60
| Fulton | 39.03
| Garland | 109.25
| Grant | 75.51
| Greene | 88.61
| Hempstead | 52.35
| Hot Spring | 58.18
| Howard | 59.68
| Independence | 48.06
| Izard | 42.79
| Jackson | 70.43
| Jefferson | 68.30
| Johnson | 58.37
| Lafayette | 53.24
| Lawrence | 74.96
| Lee | 66.33
| Lincoln | 64.43
| Little River | 50.46
| Logan | 52.24
| Lonoke | 76.99
| Madison | 65.49
| Marion | 50.97
| Miller | 53.89
| Mississippi | 71.83
| Monroe | 59.01
| Montgomery | 54.33
| Nevada | 49.46
| Newton | 50.92
| Ouachita | 46.64
| Perry | 57.65
| Phillips | 66.60
| Pike | 54.52
| Poinsett | 79.88
| Polk | 61.86
| Pope | 67.10
| Prairie | 61.04
| Pulaski | 82.13
| Randolph | 61.38
| Saline | 71.58
| Scott | 51.30
| Searcy | 39.36
| Sebastian | 69.88
| Sevier | 55.77
| Sharp | 44.57
| St. Francis | 64.97
| Stone | 45.22
| Union | 57.80
| Van Buren | 57.57
| Washington | 107.28
| White | 58.09
| Woodruff | 68.02
| Yell | 56.34
California | Alameda | 47.28
| Alpine | 30.43
| Amador | 29.64
| Butte | 80.13
| Calaveras | 23.65
| Colusa | 53.01
| Contra Costa | 46.06
| Del Norte | 55.33
| El Dorado | 66.05
| Fresno | 75.58
| Glenn | 59.32
| Humboldt | 20.56
| Imperial | 74.09
| Inyo | 4.13
| Kern | 49.11
| Kings | 71.96
| Lake | 43.62
| Lassen | 14.23
| Los Angeles | 123.63
| Madera | 72.91
| Marin | 39.01
| Mariposa | 13.73
| Mendocino | 25.48
| Merced | 87.07
| Modoc | 13.02
| Mono | 12.78
| Monterey | 49.03
| Napa | 293.80
| Nevada | 49.41
| Orange | 127.05
| Placer | 44.68
| Plumas | 15.29
| Riverside | 120.73
| Sacramento | 66.86
| San Benito | 23.75
| San Bernardino | 132.39
| San Diego | 154.43
| San Francisco | 517.41
| San Joaquin | 99.94
| San Luis Obispo | 50.22
| San Mateo | 65.00
| Santa Barbara | 69.08
| Santa Clara | 54.14
| Santa Cruz | 142.08
| Shasta | 19.42
| Sierra | 11.33
| Siskiyou | 20.40
| Solano | 60.87
| Sonoma | 147.63
| Stanislaus | 103.93
| Sutter | 63.38
| Tehama | 28.70
| Trinity | 12.78
| Tulare | 78.02
| Tuolumne | 24.72
| Ventura | 169.66
| Yolo | 64.56
| Yuba | 54.70
Colorado | Adams | 28.67
| Alamosa | 37.68
| Arapahoe | 40.17
| Archuleta | 55.17
| Baca | 13.93
| Bent | 12.26
| Boulder | 223.42
| Broomfield | 97.16
| Chaffee | 90.20
| Cheyenne | 14.89
| Clear Creek | 56.11
| Conejos | 29.98
| Costilla | 21.59
| Crowley | 9.05
| Custer | 34.53
| Delta | 85.54
| Denver | 1,132.61
| Dolores | 31.69
| Douglas | 119.91
| Eagle | 58.81
| El Paso | 25.01
| Elbert | 27.12
| Fremont | 41.52
| Garfield | 42.64
| Gilpin | 75.11
| Grand | 39.08
| Gunnison | 45.62
| Hinsdale | 32.72
| Huerfano | 17.10
| Jackson | 23.51
| Jefferson | 137.12
| Kiowa | 13.40
| Kit Carson | 21.66
| La Plata | 40.15
| Lake | 36.52
| Larimer | 82.41
| Las Animas | 10.70
| Lincoln | 12.51
| Logan | 21.11
| Mesa | 98.16
| Mineral | 61.16
| Moffat | 14.20
| Montezuma | 21.52
| Montrose | 54.97
| Morgan | 30.84
| Otero | 13.33
| Ouray | 54.28
| Park | 29.86
| Phillips | 30.07
| Pitkin | 135.37
| Prowers | 14.32
| Pueblo | 18.27
| Rio Blanco | 24.40
| Rio Grande | 55.50
| Routt | 55.82
| Saguache | 33.73
| San Juan | 28.58
| San Miguel | 26.48
| Sedgwick | 24.05
| Summit | 75.09
| Teller | 35.95
| Washington | 19.51
| Weld | 45.96
| Yuma | 29.02
Connecticut | Fairfield | 290.28
| Hartford | 433.67
| Litchfield | 304.47
| Middlesex | 400.99
| New Haven | 631.70
| New London | 308.37
| Tolland | 260.94
| Windham | 254.19
Delaware | Kent | 216.57
| New Castle | 259.65
| Sussex | 231.60
Florida | Alachua | 159.68
| Baker | 93.54
| Bay | 41.82
| Bradford | 97.40
| Brevard | 102.49
| Broward | 675.68
| Calhoun | 43.92
| Charlotte | 146.31
| Citrus | 161.66
| Clay | 116.75
| Collier | 96.83
| Columbia | 88.92
| Dade | 763.56
| DeSoto | 102.11
| Dixie | 75.89
| Duval | 153.38
| Escambia | 126.53
| Flagler | 113.46
| Franklin | 120.31
| Gadsden | 86.77
| Gilchrist | 108.49
| Glades | 87.83
| Gulf | 29.26
| Hamilton | 78.80
| Hardee | 108.81
| Hendry | 99.90
| Hernando | 213.84
| Highlands | 79.64
| Hillsborough | 238.10
| Holmes | 67.98
| Indian River | 117.13
| Jackson | 75.32
| Jefferson | 70.71
| Lafayette | 61.66
| Lake | 161.72
| Lee | 248.87
| Leon | 86.98
| Levy | 93.95
| Liberty | 79.84
| Madison | 71.91
| Manatee | 158.71
| Marion | 226.60
| Martin | 89.63
| Monroe | 120.31
| Nassau | 76.34
| Okaloosa | 97.11
| Okeechobee | 86.10
| Orange | 171.92
| Osceola | 79.11
| Palm Beach | 170.84
| Pasco | 146.00
| Pinellas | 1,171.62
| Polk | 123.64
| Putnam | 81.09
| Santa Rosa | 109.32
| Sarasota | 187.47
| Seminole | 168.64
| St. Johns | 173.45
| St. Lucie | 121.84
| Sumter | 122.84
| Suwannee | 90.08
| Taylor | 74.42
| Union | 75.89
| Volusia | 210.19
| Wakulla | 69.73
| Walton | 76.89
| Washington | 77.89
Georgia | Appling | 85.06
| Atkinson | 76.03
| Bacon | 107.76
| Baker | 58.17
| Baldwin | 56.68
| Banks | 140.87
| Barrow | 171.66
| Bartow | 157.73
| Ben Hill | 64.64
| Berrien | 81.89
| Bibb | 104.88
| Bleckley | 67.54
| Brantley | 76.42
| Brooks | 91.53
| Bryan | 80.56
| Bulloch | 74.98
| Burke | 74.43
| Butts | 102.02
| Calhoun | 78.91
| Camden | 75.01
| Candler | 82.73
| Carroll | 125.30
| Catoosa | 144.07
| Charlton | 63.54
| Chatham | 132.94
| Chattahoochee | 77.44
| Chattooga | 92.73
| Cherokee | 227.11
| Clarke | 202.50
| Clay | 61.97
| Clayton | 218.73
| Clinch | 104.27
| Cobb | 299.11
| Coffee | 78.96
| Colquitt | 86.60
| Columbia | 116.55
| Cook | 79.53
| Coweta | 126.32
| Crawford | 105.48
| Crisp | 80.24
| Dade | 104.22
| Dawson | 182.81
| Decatur | 85.35
| DeKalb | 1,228.70
| Dodge | 68.07
| Dooly | 76.50
| Dougherty | 101.29
| Douglas | 175.27
| Early | 67.26
| Echols | 73.07
| Effingham | 85.08
| Elbert | 102.76
| Emanuel | 54.74
| Evans | 70.66
| Fannin | 154.51
| Fayette | 142.44
| Floyd | 127.39
| Forsyth | 206.27
| Franklin | 150.48
| Fulton | 499.07
| Gilmer | 200.46
| Glascock | 41.68
| Glynn | 403.46
| Gordon | 171.35
| Grady | 98.44
| Greene | 93.88
| Gwinnett | 244.49
| Habersham | 187.45
| Hall | 244.31
| Hancock | 54.77
| Haralson | 124.35
| Harris | 113.15
| Hart | 147.18
| Heard | 94.54
| Henry | 195.88
| Houston | 105.27
| Irwin | 85.06
| Jackson | 166.77
| Jasper | 91.13
| Jeff Davis | 65.58
| Jefferson | 67.81
| Jenkins | 68.59
| Johnson | 54.79
| Jones | 73.46
| Lamar | 91.66
| Lanier | 79.33
| Laurens | 54.87
| Lee | 88.59
| Liberty | 138.47
| Lincoln | 81.81
| Long | 87.99
| Lowndes | 142.71
| Lumpkin | 155.12
| Macon | 84.22
| Madison | 148.28
| Marion | 62.18
| McDuffie | 78.38
| McIntosh | 62.10
| Meriwether | 85.40
| Miller | 84.88
| Mitchell | 96.92
| Monroe | 85.84
| Montgomery | 67.65
| Morgan | 122.34
| Murray | 132.68
| Muscogee | 130.98
| Newton | 117.16
| Oconee | 189.41
| Oglethorpe | 113.96
| Paulding | 151.35
| Peach | 150.95
| Pickens | 223.29
| Pierce | 75.32
| Pike | 128.20
| Polk | 94.67
| Pulaski | 69.93
| Putnam | 110.11
| Quitman | 60.40
| Rabun | 215.72
| Randolph | 74.14
| Richmond | 96.34
| Rockdale | 184.83
| Schley | 74.56
| Screven | 57.60
| Seminole | 82.23
| Spalding | 134.07
| Stephens | 151.16
| Stewart | 54.17
| Sumter | 74.85
| Talbot | 71.60
| Taliaferro | 86.18
| Tattnall | 101.42
| Taylor | 54.43
| Telfair | 57.86
| Terrell | 73.38
| Thomas | 95.29
| Tift | 83.10
| Toombs | 72.78
| Towns | 143.91
| Treutlen | 49.30
| Troup | 84.98
| Turner | 80.74
| Twiggs | 63.28
| Union | 151.08
| Upson | 103.52
| Walker | 110.98
| Walton | 148.28
| Ware | 67.15
| Warren | 78.07
| Washington | 55.13
| Wayne | 54.45
| Webster | 63.93
| Wheeler | 47.88
| White | 212.74
| Whitfield | 161.92
| Wilcox | 68.28
| Wilkes | 90.24
| Wilkinson | 53.67
| Worth | 78.62
Hawaii | Hawaii | 156.43
| Honolulu | 559.34
| Kauai | 202.63
| Maui | 258.67
Idaho | Ada | 128.41
| Adams | 20.93
| Bannock | 26.37
| Bear Lake | 19.43
| Benewah | 26.14
| Bingham | 34.35
| Blaine | 34.16
| Boise | 19.35
| Bonner | 67.99
| Bonneville | 39.36
| Boundary | 64.59
| Butte | 27.72
| Camas | 18.11
| Canyon | 111.25
| Caribou | 25.06
| Cassia | 43.07
| Clark | 23.69
| Clearwater | 33.34
| Custer | 36.80
| Elmore | 33.65
| Franklin | 31.39
| Fremont | 37.36
| Gem | 38.01
| Gooding | 81.22
| Idaho | 22.20
| Jefferson | 47.55
| Jerome | 81.54
| Kootenai | 74.60
| Latah | 34.32
| Lemhi | 34.10
| Lewis | 26.52
| Lincoln | 49.29
| Madison | 56.19
| Minidoka | 61.28
| Nez Perce | 28.07
| Oneida | 22.39
| Owyhee | 21.98
| Payette | 47.32
| Power | 33.31
| Shoshone | 90.66
| Teton | 53.38
| Twin Falls | 59.93
| Valley | 35.02
| Washington | 18.28
Illinois | Adams | 185.37
| Alexander | 97.53
| Bond | 195.85
| Boone | 222.55
| Brown | 159.50
| Bureau | 234.18
| Calhoun | 119.35
| Carroll | 229.05
| Cass | 182.29
| Champaign | 265.46
| Christian | 246.11
| Clark | 162.63
| Clay | 145.91
| Clinton | 197.39
| Coles | 224.38
| Cook | 587.93
| Crawford | 149.70
| Cumberland | 180.75
| De Witt | 238.96
| DeKalb | 268.40
| Douglas | 258.45
| DuPage | 478.87
| Edgar | 211.55
| Edwards | 153.06
| Effingham | 188.13
| Fayette | 153.80
| Ford | 221.36
| Franklin | 127.07
| Fulton | 176.45
| Gallatin | 151.21
| Greene | 176.20
| Grundy | 252.67
| Hamilton | 137.05
| Hancock | 202.04
| Hardin | 93.48
| Henderson | 198.33
| Henry | 225.14
| Iroquois | 209.36
| Jackson | 153.46
| Jasper | 160.52
| Jefferson | 118.47
| Jersey | 180.35
| Jo Daviess | 174.09
| Johnson | 105.45
| Kane | 300.82
| Kankakee | 222.87
| Kendall | 258.11
| Knox | 208.53
| La Salle | 259.99
| Lake | 346.15
| Lawrence | 160.98
| Lee | 246.97
| Livingston | 234.49
| Logan | 238.76
| Macon | 263.55
| Macoupin | 205.00
| Madison | 248.05
| Marion | 139.18
| Marshall | 230.07
| Mason | 198.96
| Massac | 110.29
| McDonough | 208.96
| McHenry | 271.84
| McLean | 280.48
| Menard | 222.44
| Mercer | 186.65
| Monroe | 189.73
| Montgomery | 207.31
| Morgan | 234.97
| Moultrie | 248.94
| Ogle | 245.00
| Peoria | 224.86
| Perry | 136.25
| Piatt | 263.84
| Pike | 168.56
| Pope | 99.47
| Pulaski | 116.90
| Putnam | 238.54
| Randolph | 154.51
| Richland | 150.44
| Rock Island | 198.45
| Saline | 137.45
| Sangamon | 254.46
| Schuyler | 156.25
| Scott | 185.14
| Shelby | 200.78
| St. Clair | 211.33
| Stark | 236.88
| Stephenson | 240.02
| Tazewell | 235.69
| Union | 121.03
| Vermilion | 233.72
| Wabash | 157.65
| Warren | 230.56
| Washington | 182.98
| Wayne | 135.74
| White | 141.98
| Whiteside | 224.86
| Will | 253.24
| Williamson | 112.63
| Winnebago | 203.35
| Woodford | 255.63
Indiana | Adams | 234.96
| Allen | 225.76
| Bartholomew | 189.92
| Benton | 219.62
| Blackford | 187.56
| Boone | 216.41
| Brown | 124.66
| Carroll | 214.08
| Cass | 177.28
| Clark | 156.61
| Clay | 144.82
| Clinton | 203.58
| Crawford | 87.86
| Daviess | 216.38
| Dearborn | 138.04
| Decatur | 201.14
| DeKalb | 157.52
| Delaware | 188.36
| Dubois | 154.91
| Elkhart | 317.42
| Fayette | 160.61
| Floyd | 154.93
| Fountain | 191.17
| Franklin | 161.01
| Fulton | 179.24
| Gibson | 184.13
| Grant | 200.45
| Greene | 140.62
| Hamilton | 248.47
| Hancock | 214.20
| Harrison | 129.92
| Hendricks | 216.90
| Henry | 170.01
| Howard | 220.50
| Huntington | 194.63
| Jackson | 150.36
| Jasper | 183.33
| Jay | 215.39
| Jefferson | 117.59
| Jennings | 129.60
| Johnson | 191.54
| Knox | 176.74
| Kosciusko | 202.19
| LaGrange | 262.64
| Lake | 197.81
| LaPorte | 208.86
| Lawrence | 105.52
| Madison | 230.24
| Marion | 299.98
| Marshall | 177.74
| Martin | 110.35
| Miami | 191.68
| Monroe | 186.54
| Montgomery | 198.32
| Morgan | 178.59
| Newton | 191.20
| Noble | 181.57
| Ohio | 124.04
| Orange | 127.47
| Owen | 129.01
| Parke | 165.84
| Perry | 113.96
| Pike | 140.03
| Porter | 192.13
| Posey | 172.45
| Pulaski | 174.64
| Putnam | 182.73
| Randolph | 182.22
| Ripley | 146.61
| Rush | 206.02
| Scott | 152.43
| Shelby | 197.22
| Spencer | 130.88
| St. Joseph | 229.65
| Starke | 142.10
| Steuben | 157.23
| Sullivan | 141.33
| Switzerland | 116.37
| Tippecanoe | 256.34
| Tipton | 231.92
| Union | 180.04
| Vanderburgh | 224.51
| Vermillion | 161.12
| Vigo | 154.05
| Wabash | 178.62
| Warren | 192.70
| Warrick | 154.17
| Washington | 127.81
| Wayne | 155.96
| Wells | 214.23
| White | 221.92
| Whitley | 180.12
Iowa | Adair | 149.19
| Adams | 142.26
| Allamakee | 152.47
| Appanoose | 115.96
| Audubon | 195.86
| Benton | 210.72
| Black Hawk | 248.83
| Boone | 227.24
| Bremer | 227.95
| Buchanan | 224.90
| Buena Vista | 229.49
| Butler | 204.50
| Calhoun | 226.55
| Carroll | 229.06
| Cass | 168.16
| Cedar | 224.16
| Cerro Gordo | 209.41
| Cherokee | 225.75
| Chickasaw | 212.89
| Clarke | 121.83
| Clay | 227.78
| Clayton | 158.18
| Clinton | 215.20
| Crawford | 193.23
| Dallas | 233.03
| Davis | 111.71
| Decatur | 109.68
| Delaware | 221.73
| Des Moines | 197.11
| Dickinson | 212.20
| Dubuque | 246.26
| Emmet | 204.87
| Fayette | 204.70
| Floyd | 209.92
| Franklin | 222.90
| Fremont | 171.21
| Greene | 236.68
| Grundy | 259.19
| Guthrie | 179.74
| Hamilton | 231.49
| Hancock | 217.40
| Hardin | 222.87
| Harrison | 175.75
| Henry | 178.77
| Howard | 212.66
| Humboldt | 230.72
| Ida | 209.58
| Iowa | 182.99
| Jackson | 170.38
| Jasper | 185.76
| Jefferson | 157.98
| Johnson | 229.26
| Jones | 198.60
| Keokuk | 166.51
| Kossuth | 225.13
| Lee | 147.36
| Linn | 237.56
| Louisa | 189.15
| Lucas | 97.36
| Lyon | 284.92
| Madison | 161.68
| Mahaska | 176.66
| Marion | 164.62
| Marshall | 216.80
| Mills | 170.93
| Mitchell | 224.36
| Monona | 164.37
| Monroe | 119.98
| Montgomery | 162.03
| Muscatine | 191.69
| O'Brien | 277.47
| Osceola | 249.94
| Page | 153.18
| Palo Alto | 228.61
| Plymouth | 244.21
| Pocahontas | 230.03
| Polk | 252.20
| Pottawattamie | 193.52
| Poweshiek | 191.35
| Ringgold | 109.94
| Sac | 226.58
| Scott | 273.51
| Shelby | 195.49
| Sioux | 296.81
| Story | 270.05
| Tama | 206.98
| Taylor | 137.27
| Union | 127.17
| Van Buren | 133.33
| Wapello | 139.09
| Warren | 160.77
| Washington | 196.51
| Wayne | 121.29
| Webster | 226.72
| Winnebago | 199.37
| Winneshiek | 182.59
| Woodbury | 210.38
| Worth | 198.43
| Wright | 216.03
Kansas | Allen | 57.30
| Anderson | 57.55
| Atchison | 85.85
| Barber | 40.55
| Barton | 44.34
| Bourbon | 56.71
| Brown | 99.04
| Butler | 64.05
| Chase | 53.97
| Chautauqua | 46.06
| Cherokee | 62.44
| Cheyenne | 41.71
| Clark | 33.52
| Clay | 76.59
| Cloud | 65.01
| Coffey | 51.54
| Comanche | 32.73
| Cowley | 52.22
| Crawford | 56.88
| Decatur | 41.17
| Dickinson | 60.43
| Doniphan | 96.89
| Douglas | 114.99
| Edwards | 52.05
| Elk | 43.63
| Ellis | 38.10
| Ellsworth | 45.41
| Finney | 44.20
| Ford | 43.69
| Franklin | 67.86
| Geary | 64.98
| Gove | 36.74
| Graham | 36.29
| Grant | 44.51
| Gray | 45.07
| Greeley | 39.99
| Greenwood | 47.08
| Hamilton | 30.10
| Harper | 46.37
| Harvey | 89.44
| Haskell | 43.12
| Hodgeman | 33.21
| Jackson | 75.60
| Jefferson | 82.01
| Jewell | 58.18
| Johnson | 106.55
| Kearny | 40.72
| Kingman | 45.72
| Kiowa | 44.37
| Labette | 59.90
| Lane | 35.98
| Leavenworth | 96.61
| Lincoln | 48.77
| Linn | 72.13
| Logan | 38.01
| Lyon | 56.14
| Marion | 57.67
| Marshall | 87.38
| McPherson | 77.35
| Meade | 41.68
| Miami | 87.40
| Mitchell | 52.75
| Montgomery | 56.76
| Morris | 45.81
| Morton | 28.92
| Nemaha | 84.89
| Neosho | 55.44
| Ness | 30.61
| Norton | 38.44
| Osage | 56.25
| Osborne | 39.82
| Ottawa | 56.79
| Pawnee | 46.82
| Phillips | 40.72
| Pottawatomie | 69.50
| Pratt | 58.03
| Rawlins | 43.55
| Reno | 60.41
| Republic | 73.03
| Rice | 57.50
| Riley | 85.34
| Rooks | 35.33
| Rush | 36.68
| Russell | 37.81
| Saline | 66.96
| Scott | 42.78
| Sedgwick | 97.82
| Seward | 39.82
| Shawnee | 84.52
| Sheridan | 44.17
| Sherman | 49.73
| Smith | 53.91
| Stafford | 50.92
| Stanton | 30.05
| Stevens | 39.17
| Sumner | 51.91
| Thomas | 49.34
| Trego | 32.22
| Wabaunsee | 54.42
| Wallace | 38.18
| Washington | 68.51
| Wichita | 39.56
| Wilson | 54.98
| Woodson | 46.94
| Wyandotte | 190.40
Kentucky | Adair | 85.49
| Allen | 98.40
| Anderson | 105.53
| Ballard | 102.72
| Barren | 102.37
| Bath | 67.07
| Bell | 56.56
| Boone | 170.64
| Bourbon | 161.55
| Boyd | 68.35
| Boyle | 105.73
| Bracken | 71.00
| Breathitt | 44.59
| Breckinridge | 87.74
| Bullitt | 146.68
| Butler | 75.26
| Caldwell | 94.90
| Calloway | 117.15
| Campbell | 143.81
| Carlisle | 107.94
| Carroll | 96.43
| Carter | 54.94
| Casey | 66.59
| Christian | 136.91
| Clark | 125.94
| Clay | 51.56
| Clinton | 79.24
| Crittenden | 78.07
| Cumberland | 58.35
| Daviess | 141.71
| Edmonson | 90.32
| Elliott | 46.01
| Estill | 68.33
| Fayette | 415.49
| Fleming | 75.12
| Floyd | 87.77
| Franklin | 112.75
| Fulton | 104.42
| Gallatin | 80.86
| Garrard | 82.91
| Grant | 94.05
| Graves | 108.71
| Grayson | 84.01
| Green | 73.75
| Greenup | 70.23
| Hancock | 84.61
| Hardin | 130.57
| Harlan | 44.45
| Harrison | 88.11
| Hart | 87.48
| Henderson | 144.84
| Henry | 109.74
| Hickman | 114.08
| Hopkins | 95.84
| Jackson | 66.96
| Jefferson | 349.47
| Jessamine | 188.72
| Johnson | 85.29
| Kenton | 159.07
| Knott | 36.35
| Knox | 68.04
| Larue | 100.87
| Laurel | 95.01
| Lawrence | 45.45
| Lee | 58.18
| Leslie | 108.57
| Letcher | 85.26
| Lewis | 59.57
| Lincoln | 92.26
| Livingston | 79.92
| Logan | 137.25
| Lyon | 88.70
| Madison | 98.57
| Magoffin | 58.83
| Marion | 98.96
| Marshall | 107.89
| Martin | 98.08
| Mason | 84.04
| McCracken | 126.65
| McCreary | 69.77
| McLean | 126.93
| Meade | 123.01
| Menifee | 54.94
| Mercer | 111.55
| Metcalfe | 76.08
| Monroe | 80.92
| Montgomery | 99.62
| Morgan | 55.37
| Muhlenberg | 85.15
| Nelson | 115.42
| Nicholas | 65.99
| Ohio | 97.14
| Oldham | 226.35
| Owen | 80.46
| Owsley | 38.14
| Pendleton | 80.72
| Perry | 32.57
| Pike | 40.19
| Powell | 66.34
| Pulaski | 92.03
| Robertson | 62.16
| Rockcastle | 61.93
| Rowan | 78.73
| Russell | 87.91
| Scott | 159.02
| Shelby | 165.10
| Simpson | 161.29
| Spencer | 129.09
| Taylor | 86.34
| Todd | 147.37
| Trigg | 116.81
| Trimble | 92.23
| Union | 143.22
| Warren | 151.60
| Washington | 91.29
| Wayne | 75.77
| Webster | 104.68
| Whitley | 71.96
| Wolfe | 57.30
| Woodford | 230.53
Louisiana | Acadia | 71.89
| Allen | 66.79
| Ascension | 94.38
| Assumption | 76.63
| Avoyelles | 66.22
| Beauregard | 79.10
| Bienville | 66.30
| Bossier | 81.26
| Caddo | 77.65
| Calcasieu | 90.58
| Caldwell | 65.26
| Cameron | 64.50
| Catahoula | 70.33
| Claiborne | 62.18
| Concordia | 72.93
| De Soto | 77.20
| East Baton Rouge | 214.77
| East Carroll | 96.65
| East Feliciana | 72.86
| Evangeline | 63.54
| Franklin | 73.82
| Grant | 71.27
| Iberia | 74.65
| Iberville | 46.75
| Jackson | 104.20
| Jefferson | 60.75
| Jefferson Davis | 57.97
| La Salle | 82.90
| Lafayette | 145.27
| Lafourche | 75.46
| Lincoln | 83.55
| Livingston | 139.28
| Madison | 71.55
| Morehouse | 82.77
| Natchitoches | 60.78
| Orleans | 269.54
| Ouachita | 110.91
| Plaquemines | 36.73
| Pointe Coupee | 80.46
| Rapides | 97.53
| Red River | 58.25
| Richland | 73.69
| Sabine | 98.37
| St. Bernard | 45.60
| St. Charles | 90.87
| St. Helena | 108.26
| St. James | 79.70
| St. John the Baptist | 91.10
| St. Landry | 75.98
| St. Martin | 83.42
| St. Mary | 85.85
| St. Tammany | 279.32
| Tangipahoa | 131.74
| Tensas | 72.96
| Terrebonne | 107.19
| Union | 79.23
| Vermilion | 74.89
| Vernon | 96.39
| Washington | 94.02
| Webster | 76.50
| West Baton Rouge | 73.40
| West Carroll | 85.79
| West Feliciana | 76.40
| Winn | 72.99
Maine | Androscoggin | 94.04
| Aroostook | 46.43
| Cumberland | 182.16
| Franklin | 66.25
| Hancock | 74.52
| Kennebec | 80.63
| Knox | 126.02
| Lincoln | 123.86
| Oxford | 77.72
| Penobscot | 65.77
| Piscataquis | 37.55
| Sagadahoc | 110.26
| Somerset | 39.37
| Waldo | 79.96
| Washington | 40.91
| York | 136.56
Maryland | Allegany | 156.34
| Anne Arundel | 288.30
| Baltimore | 414.47
| Calvert | 286.76
| Caroline | 199.23
| Carroll | 228.64
| Cecil | 224.14
| Charles | 264.42
| Dorchester | 158.69
| Frederick | 266.21
| Garrett | 127.52
| Harford | 304.91
| Howard | 255.98
| Kent | 184.77
| Montgomery | 229.62
| Prince George's | 227.35
| Queen Anne's | 205.18
| Somerset | 160.09
| St. Mary's | 278.15
| Talbot | 196.49
| Washington | 225.26
| Wicomico | 196.66
| Worcester | 148.18
Massachusetts | Barnstable | 767.18
| Berkshire | 191.93
| Bristol | 456.62
| Dukes | 286.96
| Essex | 438.14
| Franklin | 161.17
| Hampden | 259.69
| Hampshire | 192.38
| Middlesex | 400.33
| Nantucket | 982.34
| Norfolk | 430.61
| Plymouth | 240.41
| Suffolk | 5,772.37
| Worcester | 308.76
Michigan | Alcona | 71.88
| Alger | 56.61
| Allegan | 165.99
| Alpena | 70.63
| Antrim | 116.64
| Arenac | 93.11
| Baraga | 60.75
| Barry | 133.24
| Bay | 140.20
| Benzie | 109.93
| Berrien | 178.86
| Branch | 117.56
| Calhoun | 147.34
| Cass | 128.27
| Charlevoix | 104.63
| Cheboygan | 71.10
| Chippewa | 60.06
| Clare | 83.56
| Clinton | 156.94
| Crawford | 97.19
| Delta | 49.54
| Dickinson | 75.68
| Eaton | 115.89
| Emmet | 104.54
| Genesee | 146.03
| Gladwin | 108.48
| Gogebic | 72.18
| Grand Traverse | 176.56
| Gratiot | 150.75
| Hillsdale | 119.58
| Houghton | 65.33
| Huron | 167.84
| Ingham | 147.78
| Ionia | 137.51
| Iosco | 87.50
| Iron | 54.84
| Isabella | 113.76
| Jackson | 138.37
| Kalamazoo | 195.79
| Kalkaska | 73.65
| Kent | 204.81
| Keweenaw | 93.66
| Lake | 68.33
| Lapeer | 127.85
| Leelanau | 203.17
| Lenawee | 145.03
| Livingston | 158.21
| Luce | 69.96
| Mackinac | 55.42
| Macomb | 141.40
| Manistee | 80.04
| Marquette | 61.22
| Mason | 86.34
| Mecosta | 97.27
| Menominee | 58.97
| Midland | 153.80
| Missaukee | 101.52
| Monroe | 170.84
| Montcalm | 110.76
| Montmorency | 59.56
| Muskegon | 178.31
| Newaygo | 107.93
| Oakland | 322.56
| Oceana | 115.42
| Ogemaw | 77.62
| Ontonagon | 44.32
| Osceola | 83.34
| Oscoda | 76.07
| Otsego | 77.15
| Ottawa | 229.54
| Presque Isle | 65.08
| Roscommon | 68.02
| Saginaw | 161.10
| Sanilac | 136.82
| Schoolcraft | 50.51
| Shiawassee | 125.19
| St. Clair | 145.81
| St. Joseph | 158.66
| Tuscola | 144.78
| Van Buren | 160.66
| Washtenaw | 217.10
| Wayne | 320.84
| Wexford | 93.47
Minnesota | Aitkin | 59.93
| Anoka | 215.70
| Becker | 82.58
| Beltrami | 55.87
| Benton | 124.76
| Big Stone | 123.56
| Blue Earth | 204.67
| Brown | 186.82
| Carlton | 61.24
| Carver | 191.60
| Cass | 71.13
| Chippewa | 167.50
| Chisago | 130.01
| Clay | 112.20
| Clearwater | 57.58
| Cook | 168.44
| Cottonwood | 179.63
| Crow Wing | 76.39
| Dakota | 196.14
| Dodge | 195.86
| Douglas | 112.14
| Faribault | 193.22
| Fillmore | 157.84
| Freeborn | 171.36
| Goodhue | 176.31
| Grant | 125.13
| Hennepin | 382.63
| Houston | 121.91
| Hubbard | 75.20
| Isanti | 110.46
| Itasca | 80.77
| Jackson | 182.96
| Kanabec | 75.37
| Kandiyohi | 148.29
| Kittson | 63.91
| Koochiching | 41.01
| Lac qui Parle | 127.26
| Lake | 103.13
| Lake of the Woods | 48.23
| Le Sueur | 175.48
| Lincoln | 137.43
| Lyon | 166.30
| Mahnomen | 83.98
| Marshall | 70.31
| Martin | 190.74
| McLeod | 162.67
| Meeker | 147.49
| Mille Lacs | 88.15
| Morrison | 94.06
| Mower | 193.61
| Murray | 175.23
| Nicollet | 198.99
| Nobles | 196.40
| Norman | 93.81
| Olmsted | 189.18
| Otter Tail | 84.37
| Pennington | 54.79
| Pine | 67.18
| Pipestone | 165.76
| Polk | 93.21
| Pope | 117.77
| Ramsey | 757.24
| Red Lake | 67.35
| Redwood | 177.30
| Renville | 186.42
| Rice | 194.86
| Rock | 216.86
| Roseau | 49.53
| Scott | 215.70
| Sherburne | 146.50
| Sibley | 191.71
| St. Louis | 56.61
| Stearns | 146.33
| Steele | 176.22
| Stevens | 144.28
| Swift | 143.31
| Todd | 78.01
| Traverse | 141.50
| Wabasha | 156.84
| Wadena | 62.52
| Waseca | 188.16
| Washington | 247.10
| Watonwan | 201.69
| Wilkin | 110.04
| Winona | 163.49
| Wright | 183.04
| Yellow Medicine | 153.69
Mississippi | Adams | 78.59
| Alcorn | 56.77
| Amite | 85.04
| Attala | 49.18
| Benton | 51.31
| Bolivar | 80.59
| Calhoun | 47.31
| Carroll | 56.96
| Chickasaw | 53.36
| Choctaw | 49.05
| Claiborne | 72.14
| Clarke | 59.59
| Clay | 50.00
| Coahoma | 88.10
| Copiah | 68.28
| Covington | 96.04
| DeSoto | 80.16
| Forrest | 113.06
| Franklin | 84.56
| George | 99.40
| Greene | 67.35
| Grenada | 58.61
| Hancock | 102.86
| Harrison | 223.09
| Hinds | 87.70
| Holmes | 64.60
| Humphreys | 87.11
| Issaquena | 72.92
| Itawamba | 45.61
| Jackson | 133.52
| Jasper | 74.73
| Jefferson | 67.13
| Jefferson Davis | 68.47
| Jones | 100.86
| Kemper | 53.87
| Lafayette | 73.00
| Lamar | 94.52
| Lauderdale | 54.75
| Lawrence | 85.54
| Leake | 80.64
| Lee | 48.81
| Leflore | 77.31
| Lincoln | 81.81
| Lowndes | 67.40
| Madison | 70.01
| Marion | 76.75
| Marshall | 64.02
| Monroe | 58.56
| Montgomery | 53.25
| Neshoba | 70.97
| Newton | 63.16
| Noxubee | 67.48
| Oktibbeha | 74.49
| Panola | 65.62
| Pearl River | 94.44
| Perry | 85.52
| Pike | 99.26
| Pontotoc | 52.43
| Prentiss | 54.51
| Quitman | 76.22
| Rankin | 87.91
| Scott | 67.83
| Sharkey | 88.18
| Simpson | 73.47
| Smith | 76.54
| Stone | 88.13
| Sunflower | 84.82
| Tallahatchie | 75.13
| Tate | 75.26
| Tippah | 55.20
| Tishomingo | 50.35
| Tunica | 78.72
| Union | 53.25
| Walthall | 82.69
| Warren | 64.66
| Washington | 98.78
| Wayne | 82.48
| Webster | 48.83
| Wilkinson | 63.96
| Winston | 60.66
| Yalobusha | 49.66
| Yazoo | 74.30
Missouri | Adair | 77.90
| Andrew | 107.23
| Atchison | 136.81
| Audrain | 118.75
| Barry | 95.68
| Barton | 76.82
| Bates | 86.22
| Benton | 76.37
| Bollinger | 69.95
| Boone | 157.76
| Buchanan | 113.09
| Butler | 131.00
| Caldwell | 88.45
| Callaway | 110.49
| Camden | 61.61
| Cape Girardeau | 121.18
| Carroll | 99.89
| Carter | 53.27
| Cass | 104.89
| Cedar | 69.45
| Chariton | 95.96
| Christian | 112.36
| Clark | 99.75
| Clay | 116.33
| Clinton | 103.83
| Cole | 101.73
| Cooper | 91.19
| Crawford | 72.07
| Dade | 78.32
| Dallas | 70.82
| Daviess | 91.10
| DeKalb | 91.32
| Dent | 58.34
| Douglas | 58.60
| Dunklin | 142.02
| Franklin | 107.82
| Gasconade | 77.76
| Gentry | 86.44
| Greene | 132.40
| Grundy | 81.70
| Harrison | 77.23
| Henry | 75.06
| Hickory | 58.82
| Holt | 136.53
| Howard | 84.35
| Howell | 59.82
| Iron | 57.62
| Jackson | 162.23
| Jasper | 89.87
| Jefferson | 117.19
| Johnson | 93.31
| Knox | 84.88
| Laclede | 70.23
| Lafayette | 126.54
| Lawrence | 89.23
| Lewis | 92.41
| Lincoln | 121.68
| Linn | 80.44
| Livingston | 94.09
| Macon | 89.12
| Madison | 58.57
| Maries | 55.00
| Marion | 110.66
| McDonald | 74.83
| Mercer | 75.14
| Miller | 69.67
| Mississippi | 162.87
| Moniteau | 99.61
| Monroe | 99.31
| Montgomery | 105.22
| Morgan | 107.06
| New Madrid | 156.00
| Newton | 101.54
| Nodaway | 111.94
| Oregon | 49.69
| Osage | 67.38
| Ozark | 59.52
| Pemiscot | 146.07
| Perry | 91.32
| Pettis | 97.66
| Phelps | 73.55
| Pike | 98.11
| Platte | 123.58
| Polk | 70.45
| Pulaski | 62.42
| Putnam | 70.31
| Ralls | 107.42
| Randolph | 96.57
| Ray | 98.11
| Reynolds | 44.62
| Ripley | 68.25
| Saline | 111.89
| Schuyler | 72.02
| Scotland | 94.03
| Scott | 141.94
| Shannon | 54.77
| Shelby | 104.05
| St Louis | 121.32
| St. Charles | 136.30
| St. Clair | 68.44
| St. Francois | 81.84
| Ste. Genevieve | 82.34
| Stoddard | 149.36
| Stone | 80.75
| Sullivan | 65.24
| Taney | 62.36
| Texas | 57.65
| Vernon | 79.27
| Warren | 112.95
| Washington | 66.18
| Wayne | 65.57
| Webster | 86.55
| Worth | 79.35
| Wright | 60.21
Montana | Beaverhead | 28.32
| Big Horn | 8.45
| Blaine | 12.73
| Broadwater | 25.16
| Carbon | 31.91
| Carter | 11.57
| Cascade | 26.06
| Chouteau | 20.06
| Custer | 11.53
| Daniels | 13.63
| Dawson | 14.36
| Deer Lodge | 41.78
| Fallon | 12.99
| Fergus | 23.52
| Flathead | 137.39
| Gallatin | 65.16
| Garfield | 8.69
| Glacier | 25.09
| Golden Valley | 14.41
| Granite | 34.79
| Hill | 18.51
| Jefferson | 36.60
| Judith Basin | 19.98
| Lake | 34.53
| Lewis and Clark | 28.08
| Liberty | 19.29
| Lincoln | 112.89
| Madison | 36.77
| McCone | 11.35
| Meagher | 19.53
| Mineral | 107.56
| Missoula | 60.12
| Musselshell | 13.74
| Park | 56.10
| Petroleum | 14.58
| Phillips | 11.40
| Pondera | 25.95
| Powder River | 11.85
| Powell | 27.85
| Prairie | 16.64
| Ravalli | 123.30
| Richland | 18.86
| Roosevelt | 15.53
| Rosebud | 9.25
| Sanders | 21.25
| Sheridan | 14.92
| Silver Bow | 48.40
| Stillwater | 28.90
| Sweet Grass | 24.43
| Teton | 25.50
| Toole | 18.86
| Treasure | 12.43
| Valley | 13.85
| Wheatland | 14.90
| Wibaux | 13.27
| Yellowstone | 21.57
Nebraska | Adams | 137.57
| Antelope | 118.58
| Arthur | 20.70
| Banner | 22.54
| Blaine | 25.66
| Boone | 114.99
| Box Butte | 34.48
| Boyd | 52.41
| Brown | 30.29
| Buffalo | 113.54
| Burt | 159.21
| Butler | 147.14
| Cass | 144.91
| Cedar | 133.93
| Chase | 53.89
| Cherry | 24.11
| Cheyenne | 26.36
| Clay | 125.35
| Colfax | 160.09
| Cuming | 157.32
| Custer | 63.97
| Dakota | 146.18
| Dawes | 22.98
| Dawson | 88.18
| Deuel | 33.73
| Dixon | 120.85
| Dodge | 165.72
| Douglas | 197.56
| Dundy | 39.54
| Fillmore | 140.80
| Franklin | 89.48
| Frontier | 48.56
| Furnas | 63.76
| Gage | 114.42
| Garden | 22.38
| Garfield | 38.33
| Gosper | 72.68
| Grant | 21.63
| Greeley | 76.63
| Hall | 131.37
| Hamilton | 163.88
| Harlan | 74.38
| Hayes | 36.57
| Hitchcock | 40.68
| Holt | 61.51
| Hooker | 19.00
| Howard | 90.23
| Jefferson | 107.28
| Johnson | 93.84
| Kearney | 135.22
| Keith | 42.02
| Keya Paha | 36.60
| Kimball | 27.78
| Knox | 86.45
| Lancaster | 144.68
| Lincoln | 43.26
| Logan | 31.01
| Loup | 30.06
| Madison | 150.39
| McPherson | 21.17
| Merrick | 131.14
| Morrill | 29.59
| Nance | 109.25
| Nemaha | 117.54
| Nuckolls | 92.73
| Otoe | 128.11
| Pawnee | 83.84
| Perkins | 55.31
| Phelps | 132.17
| Pierce | 125.92
| Platte | 163.55
| Polk | 152.77
| Red Willow | 50.32
| Richardson | 110.28
| Rock | 29.41
| Saline | 121.89
| Sarpy | 192.26
| Saunders | 145.79
| Scotts Bluff | 52.67
| Seward | 147.58
| Sheridan | 25.07
| Sherman | 69.16
| Sioux | 23.29
| Stanton | 128.99
| Thayer | 101.31
| Thomas | 20.16
| Thurston | 124.75
| Valley | 74.38
| Washington | 168.49
| Wayne | 142.46
| Webster | 70.79
| Wheeler | 39.49
| York | 177.76
Nevada | Carson City | 6.57
| Churchill | 13.85
| Clark | 22.48
| Douglas | 14.86
| Elko | 3.97
| Esmeralda | 15.06
| Eureka | 3.62
| Humboldt | 6.41
| Lander | 7.59
| Lincoln | 18.63
| Lyon | 16.53
| Mineral | 2.12
| Nye | 12.52
| Pershing | 5.79
| Storey | 6.57
| Washoe | 7.42
| White Pine | 9.59
New Hampshire | Belknap | 133.27
| Carroll | 106.55
| Cheshire | 102.81
| Coos | 69.53
| Grafton | 105.96
| Hillsborough | 210.85
| Merrimack | 157.24
| Rockingham | 305.94
| Strafford | 176.09
| Sullivan | 129.96
New Jersey | Atlantic | 326.48
| Bergen | 2,544.38
| Burlington | 257.11
| Camden | 419.97
| Cape May | 372.44
| Cumberland | 250.69
| Essex | 2,159.58
| Gloucester | 324.23
| Hudson | 1,286.78
| Hunterdon | 399.45
| Mercer | 463.32
| Middlesex | 556.91
| Monmouth | 536.68
| Morris | 548.04
| Ocean | 486.78
| Passaic | 817.30
| Salem | 215.37
| Somerset | 505.83
| Sussex | 295.04
| Union | 4,001.49
| Warren | 311.64
New Mexico | Bernalillo | 56.63
| Catron | 8.62
| Chaves | 9.71
| Cibola | 6.51
| Colfax | 10.37
| Curry | 14.27
| De Baca | 7.70
| Dona Ana | 50.99
| Eddy | 12.13
| Grant | 10.00
| Guadalupe | 6.38
| Harding | 7.51
| Hidalgo | 10.69
| Lea | 8.46
| Lincoln | 10.22
| Los Alamos | 10.69
| Luna | 10.57
| McKinley | 8.79
| Mora | 11.33
| Otero | 9.01
| Quay | 7.23
| Rio Arriba | 17.61
| Roosevelt | 9.38
| San Juan | 10.96
| San Miguel | 8.25
| Sandoval | 9.22
| Santa Fe | 18.08
| Sierra | 7.41
| Socorro | 12.89
| Taos | 33.56
| Torrance | 9.79
| Union | 8.48
| Valencia | 23.85
New York | Albany | 123.24
| Allegany | 55.80
| Bronx | 89.50
| Broome | 85.62
| Cattaraugus | 63.50
| Cayuga | 109.63
| Chautauqua | 73.31
| Chemung | 72.59
| Chenango | 56.99
| Clinton | 73.31
| Columbia | 116.08
| Cortland | 64.31
| Delaware | 79.83
| Dutchess | 250.57
| Erie | 126.84
| Essex | 66.02
| Franklin | 68.94
| Fulton | 77.36
| Genesee | 92.72
| Greene | 87.48
| Hamilton | 92.61
| Herkimer | 63.45
| Jefferson | 74.20
| Kings | 12,295.95
| Lewis | 55.69
| Livingston | 102.89
| Madison | 72.65
| Monroe | 119.35
| Montgomery | 68.88
| Nassau | 481.25
| New York | 89.50
| Niagara | 85.10
| Oneida | 73.70
| Onondaga | 114.25
| Ontario | 111.62
| Orange | 192.25
| Orleans | 87.95
| Oswego | 61.34
| Otsego | 73.90
| Putnam | 166.34
| Queens | 1,344.81
| Rensselaer | 97.37
| Richmond | 89.50
| Rockland | 797.51
| Saratoga | 163.26
| Schenectady | 118.86
| Schoharie | 67.49
| Schuyler | 90.64
| Seneca | 104.11
| St. Lawrence | 50.78
| Steuben | 58.18
| Suffolk | 338.69
| Sullivan | 116.78
| Tioga | 63.34
| Tompkins | 105.02
| Ulster | 191.23
| Warren | 115.70
| Washington | 77.44
| Wayne | 95.27
| Westchester | 295.09
| Wyoming | 95.99
| Yates | 144.88
North Carolina | Alamance | 166.99
| Alexander | 156.75
| Alleghany | 137.41
| Anson | 113.72
| Ashe | 146.34
| Avery | 180.74
| Beaufort | 95.19
| Bertie | 84.39
| Bladen | 92.79
| Brunswick | 109.10
| Buncombe | 276.90
| Burke | 158.67
| Cabarrus | 242.39
| Caldwell | 126.30
| Camden | 88.56
| Carteret | 126.25
| Caswell | 90.20
| Catawba | 182.10
| Chatham | 153.21
| Cherokee | 136.54
| Chowan | 97.24
| Clay | 174.70
| Cleveland | 129.81
| Columbus | 90.84
| Craven | 109.57
| Cumberland | 143.78
| Currituck | 136.54
| Dare | 117.09
| Davidson | 161.34
| Davie | 141.64
| Duplin | 133.54
| Durham | 296.58
| Edgecombe | 84.86
| Forsyth | 259.03
| Franklin | 98.97
| Gaston | 170.92
| Gates | 100.89
| Graham | 133.26
| Granville | 96.97
| Greene | 109.80
| Guilford | 227.61
| Halifax | 71.42
| Harnett | 155.16
| Haywood | 179.82
| Henderson | 215.86
| Hertford | 89.03
| Hoke | 122.52
| Hyde | 82.77
| Iredell | 151.35
| Jackson | 228.08
| Johnston | 131.95
| Jones | 112.83
| Lee | 160.42
| Lenoir | 110.77
| Lincoln | 159.50
| Macon | 221.71
| Madison | 138.02
| Martin | 74.53
| McDowell | 146.34
| Mecklenburg | 954.30
| Mitchell | 161.84
| Montgomery | 132.01
| Moore | 141.97
| Nash | 128.78
| New Hanover | 947.37
| Northampton | 77.85
| Onslow | 174.90
| Orange | 186.08
| Pamlico | 101.64
| Pasquotank | 110.88
| Pender | 148.87
| Perquimans | 99.08
| Person | 105.15
| Pitt | 107.01
| Polk | 179.29
| Randolph | 140.61
| Richmond | 121.49
| Robeson | 92.26
| Rockingham | 107.79
| Rowan | 162.82
| Rutherford | 133.09
| Sampson | 136.13
| Scotland | 100.19
| Stanly | 128.00
| Stokes | 113.67
| Surry | 124.44
| Swain | 101.81
| Transylvania | 215.28
| Tyrrell | 115.45
| Union | 148.51
| Vance | 82.88
| Wake | 324.46
| Warren | 80.96
| Washington | 102.09
| Watauga | 179.21
| Wayne | 138.88
| Wilkes | 142.61
| Wilson | 105.32
| Yadkin | 152.27
| Yancey | 151.57
North Dakota | Adams | 30.37
| Barnes | 65.78
| Benson | 38.94
| Billings | 26.16
| Bottineau | 44.01
| Bowman | 29.26
| Burke | 30.00
| Burleigh | 54.08
| Cass | 105.83
| Cavalier | 59.21
| Dickey | 67.60
| Divide | 30.43
| Dunn | 32.65
| Eddy | 41.42
| Emmons | 45.12
| Foster | 57.16
| Golden Valley | 29.94
| Grand Forks | 97.09
| Grant | 30.49
| Griggs | 50.58
| Hettinger | 39.99
| Kidder | 35.81
| LaMoure | 72.27
| Logan | 33.90
| McHenry | 31.00
| McIntosh | 38.83
| McKenzie | 29.20
| McLean | 50.81
| Mercer | 38.94
| Morton | 39.96
| Mountrail | 36.38
| Nelson | 38.71
| Oliver | 41.07
| Pembina | 78.48
| Pierce | 40.11
| Ramsey | 51.49
| Ransom | 57.27
| Renville | 45.69
| Richland | 90.77
| Rolette | 36.43
| Sargent | 79.33
| Sheridan | 31.25
| Sioux | 35.38
| Slope | 30.09
| Stark | 37.89
| Steele | 62.54
| Stutsman | 57.07
| Towner | 39.42
| Traill | 87.78
| Walsh | 71.53
| Ward | 46.48
| Wells | 48.70
| Williams | 31.20
Ohio | Adams | 110.18
| Allen | 205.94
| Ashland | 172.42
| Ashtabula | 124.11
| Athens | 91.19
| Auglaize | 231.05
| Belmont | 108.67
| Brown | 125.11
| Butler | 234.29
| Carroll | 133.68
| Champaign | 203.50
| Clark | 214.05
| Clermont | 159.08
| Clinton | 169.10
| Columbiana | 163.73
| Coshocton | 149.83
| Crawford | 182.95
| Cuyahoga | 463.02
| Darke | 236.11
| Defiance | 162.80
| Delaware | 222.06
| Erie | 185.73
| Fairfield | 218.59
| Fayette | 202.70
| Franklin | 228.22
| Fulton | 198.25
| Gallia | 89.20
| Geauga | 205.62
| Greene | 202.64
| Guernsey | 105.64
| Hamilton | 377.28
| Hancock | 171.48
| Hardin | 167.11
| Harrison | 93.94
| Henry | 185.90
| Highland | 142.50
| Hocking | 128.48
| Holmes | 219.70
| Huron | 172.64
| Jackson | 79.87
| Jefferson | 155.08
| Knox | 171.62
| Lake | 231.65
| Lawrence | 93.29
| Licking | 187.77
| Logan | 171.74
| Lorain | 212.41
| Lucas | 234.91
| Madison | 196.80
| Mahoning | 188.06
| Marion | 165.69
| Medina | 222.31
| Meigs | 98.40
| Mercer | 274.53
| Miami | 210.62
| Monroe | 92.75
| Montgomery | 204.74
| Morgan | 98.14
| Morrow | 170.35
| Muskingum | 116.39
| Noble | 87.36
| Ottawa | 153.52
| Paulding | 177.67
| Perry | 129.82
| Pickaway | 171.23
| Pike | 117.95
| Portage | 184.79
| Preble | 181.56
| Putnam | 189.99
| Richland | 213.00
| Ross | 130.07
| Sandusky | 168.19
| Scioto | 89.06
| Seneca | 167.14
| Shelby | 218.20
| Stark | 262.36
| Summit | 379.32
| Trumbull | 122.92
| Tuscarawas | 157.66
| Union | 180.22
| Van Wert | 212.69
| Vinton | 89.86
| Warren | 222.06
| Washington | 90.51
| Wayne | 253.73
| Williams | 146.48
| Wood | 188.99
| Wyandot | 161.95
Oklahoma | Adair | 66.90
| Alfalfa | 47.63
| Atoka | 51.29
| Beaver | 25.11
| Beckham | 37.25
| Blaine | 45.53
| Bryan | 63.40
| Caddo | 48.44
| Canadian | 65.69
| Carter | 56.77
| Cherokee | 69.44
| Choctaw | 49.61
| Cimarron | 23.07
| Cleveland | 135.67
| Coal | 50.93
| Comanche | 53.92
| Cotton | 38.01
| Craig | 58.87
| Creek | 61.33
| Custer | 40.61
| Delaware | 76.32
| Dewey | 38.34
| Ellis | 27.80
| Garfield | 48.55
| Garvin | 53.61
| Grady | 58.67
| Grant | 44.89
| Greer | 32.33
| Harmon | 35.01
| Harper | 30.79
| Haskell | 53.19
| Hughes | 44.61
| Jackson | 39.10
| Jefferson | 43.24
| Johnston | 52.35
| Kay | 46.01
| Kingfisher | 53.78
| Kiowa | 35.07
| Latimer | 50.23
| Le Flore | 60.46
| Lincoln | 62.67
| Logan | 62.65
| Love | 68.66
| Major | 41.50
| Marshall | 67.74
| Mayes | 77.75
| McClain | 73.72
| McCurtain | 59.88
| McIntosh | 53.17
| Murray | 59.79
| Muskogee | 63.09
| Noble | 49.75
| Nowata | 57.70
| Okfuskee | 47.91
| Oklahoma | 181.23
| Okmulgee | 61.86
| Osage | 44.52
| Ottawa | 77.64
| Pawnee | 49.87
| Payne | 67.71
| Pittsburg | 49.00
| Pontotoc | 60.63
| Pottawatomie | 63.04
| Pushmataha | 43.13
| Roger Mills | 35.85
| Rogers | 81.38
| Seminole | 50.98
| Sequoyah | 61.28
| Stephens | 49.19
| Texas | 28.33
| Tillman | 37.11
| Tulsa | 163.02
| Wagoner | 79.23
| Washington | 65.83
| Washita | 41.56
| Woods | 37.08
| Woodward | 34.01
Oregon | Baker | 24.75
| Benton | 127.45
| Clackamas | 425.89
| Clatsop | 141.60
| Columbia | 171.32
| Coos | 60.34
| Crook | 18.91
| Curry | 70.10
| Deschutes | 171.57
| Douglas | 67.58
| Gilliam | 14.25
| Grant | 20.49
| Harney | 13.50
| Hood River | 275.68
| Jackson | 168.15
| Jefferson | 16.93
| Josephine | 356.17
| Klamath | 43.33
| Lake | 21.40
| Lane | 169.38
| Lincoln | 108.84
| Linn | 140.39
| Malheur | 29.46
| Marion | 244.82
| Morrow | 22.31
| Multnomah | 413.32
| Polk | 140.87
| Sherman | 16.83
| Tillamook | 154.33
| Umatilla | 36.11
| Union | 35.87
| Wallowa | 32.31
| Wasco | 18.03
| Washington | 338.49
| Wheeler | 17.92
| Yamhill | 201.49
Pennsylvania | Adams | 193.70
| Allegheny | 246.59
| Armstrong | 102.50
| Beaver | 170.19
| Bedford | 114.66
| Berks | 315.31
| Blair | 189.79
| Bradford | 101.91
| Bucks | 264.64
| Butler | 148.83
| Cambria | 130.27
| Cameron | 80.00
| Carbon | 186.19
| Centre | 188.47
| Chester | 341.50
| Clarion | 90.30
| Clearfield | 101.49
| Clinton | 183.91
| Columbia | 169.59
| Crawford | 93.98
| Cumberland | 214.15
| Dauphin | 247.29
| Delaware | 404.93
| Elk | 118.09
| Erie | 126.89
| Fayette | 116.49
| Forest | 137.84
| Franklin | 211.76
| Fulton | 117.44
| Greene | 102.50
| Huntingdon | 135.42
| Indiana | 101.27
| Jefferson | 93.22
| Juniata | 183.46
| Lackawanna | 149.12
| Lancaster | 514.35
| Lawrence | 123.43
| Lebanon | 405.07
| Lehigh | 220.79
| Luzerne | 170.55
| Lycoming | 144.00
| McKean | 80.11
| Mercer | 112.43
| Mifflin | 173.81
| Monroe | 165.74
| Montgomery | 544.59
| Montour | 181.21
| Northampton | 211.09
| Northumberland | 165.18
| Perry | 186.47
| Philadelphia | 1,651.53
| Pike | 62.62
| Potter | 96.46
| Schuylkill | 186.92
| Snyder | 206.25
| Somerset | 90.66
| Sullivan | 115.08
| Susquehanna | 133.34
| Tioga | 106.81
| Union | 270.02
| Venango | 106.81
| Warren | 97.36
| Washington | 183.15
| Wayne | 120.79
| Westmoreland | 166.22
| Wyoming | 116.57
| York | 230.69
Puerto Rico | All Areas | 152.36
Rhode Island | Bristol | 1,072.48
| Kent | 336.72
| Newport | 580.59
| Providence | 339.12
| Washington | 323.71
South Carolina | Abbeville | 85.52
| Aiken | 104.06
| Allendale | 60.94
| Anderson | 156.76
| Bamberg | 80.99
| Barnwell | 76.93
| Beaufort | 100.05
| Berkeley | 73.84
| Calhoun | 84.28
| Charleston | 258.80
| Cherokee | 92.92
| Chester | 91.79
| Chesterfield | 81.54
| Clarendon | 62.81
| Colleton | 83.70
| Darlington | 71.71
| Dillon | 63.28
| Dorchester | 77.65
| Edgefield | 97.43
| Fairfield | 79.20
| Florence | 87.45
| Georgetown | 56.43
| Greenville | 253.80
| Greenwood | 94.36
| Hampton | 67.37
| Horry | 124.58
| Jasper | 101.13
| Kershaw | 85.33
| Lancaster | 109.17
| Laurens | 105.91
| Lee | 66.74
| Lexington | 152.84
| Marion | 64.39
| Marlboro | 53.23
| McCormick | 55.36
| Newberry | 91.54
| Oconee | 176.37
| Orangeburg | 83.37
| Pickens | 194.74
| Richland | 132.51
| Saluda | 85.44
| Spartanburg | 227.37
| Sumter | 82.73
| Union | 70.00
| Williamsburg | 62.01
| York | 192.78
South Dakota | Aurora | 75.23
| Beadle | 76.33
| Bennett | 26.98
| Bon Homme | 112.93
| Brookings | 130.44
| Brown | 95.29
| Brule | 73.07
| Buffalo | 43.79
| Butte | 27.18
| Campbell | 51.90
| Charles Mix | 79.03
| Clark | 89.29
| Clay | 133.28
| Codington | 98.27
| Corson | 26.05
| Custer | 45.24
| Davison | 96.32
| Day | 74.97
| Deuel | 97.73
| Dewey | 27.49
| Douglas | 105.47
| Edmunds | 69.73
| Fall River | 20.29
| Faulk | 72.19
| Grant | 105.70
| Gregory | 53.26
| Haakon | 26.16
| Hamlin | 111.28
| Hand | 58.28
| Hanson | 122.51
| Harding | 18.85
| Hughes | 53.60
| Hutchinson | 127.41
| Hyde | 43.28
| Jackson | 24.80
| Jerauld | 67.77
| Jones | 32.40
| Kingsbury | 107.99
| Lake | 145.15
| Lawrence | 50.71
| Lincoln | 195.75
| Lyman | 46.80
| Marshall | 79.76
| McCook | 123.78
| McPherson | 61.05
| Meade | 26.96
| Mellette | 27.35
| Miner | 100.14
| Minnehaha | 182.79
| Moody | 164.97
| Oglala Lakota | 19.10
| Pennington | 29.99
| Perkins | 23.55
| Potter | 59.92
| Roberts | 85.23
| Sanborn | 80.98
| Spink | 88.78
| Stanley | 26.11
| Sully | 61.05
| Todd | 24.09
| Tripp | 45.92
| Turner | 142.26
| Union | 166.53
| Walworth | 56.12
| Yankton | 125.34
| Ziebach | 24.23
Tennessee | Anderson | 155.09
| Bedford | 118.25
| Benton | 70.63
| Bledsoe | 97.76
| Blount | 182.64
| Bradley | 172.12
| Campbell | 117.43
| Cannon | 101.79
| Carroll | 77.62
| Carter | 147.54
| Cheatham | 129.32
| Chester | 72.08
| Claiborne | 88.77
| Clay | 94.59
| Cocke | 125.63
| Coffee | 116.49
| Crockett | 95.49
| Cumberland | 114.73
| Davidson | 254.78
| Decatur | 62.69
| DeKalb | 96.03
| Dickson | 119.22
| Dyer | 95.47
| Fayette | 95.72
| Fentress | 98.53
| Franklin | 116.38
| Gibson | 100.49
| Giles | 92.94
| Grainger | 107.78
| Greene | 127.50
| Grundy | 98.16
| Hamblen | 156.28
| Hamilton | 279.53
| Hancock | 75.54
| Hardeman | 64.96
| Hardin | 63.34
| Hawkins | 105.77
| Haywood | 94.19
| Henderson | 71.57
| Henry | 94.33
| Hickman | 89.51
| Houston | 91.75
| Humphreys | 78.98
| Jackson | 88.12
| Jefferson | 146.12
| Johnson | 112.75
| Knox | 279.39
| Lake | 99.64
| Lauderdale | 96.06
| Lawrence | 93.54
| Lewis | 81.13
| Lincoln | 103.95
| Loudon | 161.47
| Macon | 106.79
| Madison | 92.60
| Marion | 92.34
| Marshall | 99.27
| Maury | 114.56
| McMinn | 132.41
| McNairy | 62.52
| Meigs | 94.42
| Monroe | 120.67
| Montgomery | 139.54
| Moore | 102.76
| Morgan | 86.78
| Obion | 102.13
| Overton | 95.75
| Perry | 62.89
| Pickett | 99.35
| Polk | 116.72
| Putnam | 131.93
| Rhea | 122.34
| Roane | 149.44
| Robertson | 149.98
| Rutherford | 208.89
| Scott | 75.80
| Sequatchie | 109.65
| Sevier | 173.51
| Shelby | 148.62
| Smith | 97.93
| Stewart | 75.20
| Sullivan | 200.49
| Sumner | 150.75
| Tipton | 93.37
| Trousdale | 97.39
| Unicoi | 202.76
| Union | 116.12
| Van Buren | 95.07
| Warren | 98.08
| Washington | 223.37
| Wayne | 67.17
| Weakley | 102.62
| White | 108.29
| Williamson | 172.00
| Wilson | 139.37
Texas | Anderson | 76.82
| Andrews | 21.32
| Angelina | 98.71
| Aransas | 45.62
| Archer | 40.25
| Armstrong | 25.17
| Atascosa | 61.84
| Austin | 105.81
| Bailey | 23.08
| Bandera | 68.56
| Bastrop | 111.44
| Baylor | 27.96
| Bee | 55.45
| Bell | 88.91
| Bexar | 160.88
| Blanco | 80.78
| Borden | 23.92
| Bosque | 67.26
| Bowie | 81.35
| Brazoria | 126.80
| Brazos | 154.11
| Brewster | 18.45
| Briscoe | 24.19
| Brooks | 42.04
| Brown | 65.31
| Burleson | 92.83
| Burnet | 80.29
| Caldwell | 103.51
| Calhoun | 58.08
| Callahan | 46.92
| Cameron | 96.44
| Camp | 89.23
| Carson | 36.81
| Cass | 63.52
| Castro | 37.38
| Chambers | 64.12
| Cherokee | 84.16
| Childress | 25.06
| Clay | 52.12
| Cochran | 25.08
| Coke | 26.06
| Coleman | 44.51
| Collin | 269.43
| Collingsworth | 27.47
| Colorado | 81.51
| Comal | 92.51
| Comanche | 71.49
| Concho | 39.96
| Cooke | 89.58
| Coryell | 70.59
| Cottle | 30.07
| Crane | 22.97
| Crockett | 22.00
| Crosby | 26.28
| Culberson | 19.94
| Dallam | 30.72
| Dallas | 219.34
| Dawson | 28.17
| Deaf Smith | 30.56
| Delta | 53.31
| Denton | 258.70
| DeWitt | 83.22
| Dickens | 28.85
| Dimmit | 38.20
| Donley | 23.43
| Duval | 45.97
| Eastland | 53.20
| Ector | 31.37
| Edwards | 31.69
| El Paso | 108.76
| Ellis | 86.98
| Erath | 85.76
| Falls | 68.07
| Fannin | 77.83
| Fayette | 109.22
| Fisher | 30.64
| Floyd | 27.25
| Foard | 30.23
| Fort Bend | 84.06
| Franklin | 83.98
| Freestone | 69.48
| Frio | 50.06
| Gaines | 31.29
| Galveston | 143.54
| Garza | 27.22
| Gillespie | 82.32
| Glasscock | 24.89
| Goliad | 72.00
| Gonzales | 86.14
| Gray | 30.99
| Grayson | 183.39
| Gregg | 153.02
| Grimes | 104.21
| Guadalupe | 105.46
| Hale | 35.24
| Hall | 24.89
| Hamilton | 67.99
| Hansford | 36.35
| Hardeman | 28.28
| Hardin | 84.71
| Harris | 233.91
| Harrison | 71.19
| Hartley | 33.62
| Haskell | 28.50
| Hays | 264.74
| Hemphill | 30.18
| Henderson | 86.36
| Hidalgo | 117.00
| Hill | 68.51
| Hockley | 27.31
| Hood | 92.86
| Hopkins | 79.05
| Houston | 75.60
| Howard | 25.06
| Hudspeth | 24.46
| Hunt | 83.81
| Hutchinson | 26.22
| Irion | 26.95
| Jack | 63.20
| Jackson | 78.83
| Jasper | 86.87
| Jeff Davis | 18.61
| Jefferson | 63.79
| Jim Hogg | 47.05
| Jim Wells | 56.05
| Johnson | 107.03
| Jones | 30.91
| Karnes | 66.26
| Kaufman | 81.54
| Kendall | 83.87
| Kenedy | 19.96
| Kent | 23.22
| Kerr | 67.64
| Kimble | 53.96
| King | 18.77
| Kinney | 33.62
| Kleberg | 35.76
| Knox | 30.18
| La Salle | 42.91
| Lamar | 67.91
| Lamb | 33.75
| Lampasas | 76.61
| Lavaca | 95.11
| Lee | 99.58
| Leon | 82.27
| Liberty | 81.48
| Limestone | 49.90
| Lipscomb | 30.45
| Live Oak | 58.48
| Llano | 70.97
| Loving | 5.17
| Lubbock | 46.11
| Lynn | 27.28
| Madison | 81.16
| Marion | 54.26
| Martin | 24.11
| Mason | 62.79
| Matagorda | 64.93
| Maverick | 38.06
| McCulloch | 53.39
| McLennan | 97.74
| McMullen | 49.19
| Medina | 72.44
| Menard | 40.15
| Midland | 43.59
| Milam | 85.68
| Mills | 67.97
| Mitchell | 27.01
| Montague | 74.01
| Montgomery | 309.19
| Moore | 30.72
| Morris | 61.84
| Motley | 22.94
| Nacogdoches | 78.42
| Navarro | 63.63
| Newton | 60.16
| Nolan | 29.85
| Nueces | 82.68
| Ochiltree | 33.37
| Oldham | 22.08
| Orange | 125.12
| Palo Pinto | 66.10
| Panola | 72.33
| Parker | 116.37
| Parmer | 30.47
| Pecos | 18.75
| Polk | 81.56
| Potter | 27.52
| Presidio | 21.21
| Rains | 94.24
| Randall | 42.85
| Reagan | 22.70
| Real | 52.04
| Red River | 52.20
| Reeves | 14.25
| Refugio | 33.86
| Roberts | 20.61
| Robertson | 78.26
| Rockwall | 149.96
| Runnels | 37.46
| Rusk | 69.37
| Sabine | 61.11
| San Augustine | 76.39
| San Jacinto | 111.06
| San Patricio | 71.79
| San Saba | 66.34
| Schleicher | 31.99
| Scurry | 28.33
| Shackelford | 34.94
| Shelby | 95.00
| Sherman | 38.76
| Smith | 142.16
| Somervell | 84.87
| Starr | 49.68
| Stephens | 47.38
| Sterling | 18.37
| Stonewall | 24.76
| Sutton | 34.40
| Swisher | 28.33
| Tarrant | 165.35
| Taylor | 55.61
| Terrell | 20.34
| Terry | 27.60
| Throckmorton | 38.14
| Titus | 68.26
| Tom Green | 42.58
| Travis | 169.47
| Trinity | 71.62
| Tyler | 92.43
| Upshur | 93.27
| Upton | 21.89
| Uvalde | 35.19
| Val Verde | 27.31
| Van Zandt | 99.50
| Victoria | 79.10
| Walker | 99.66
| Waller | 126.50
| Ward | 28.82
| Washington | 129.51
| Webb | 46.40
| Wharton | 78.61
| Wheeler | 29.50
| Wichita | 39.93
| Wilbarger | 34.65
| Willacy | 47.60
| Williamson | 100.82
| Wilson | 85.98
| Winkler | 30.37
| Wise | 105.54
| Wood | 91.07
| Yoakum | 25.44
| Young | 45.81
| Zapata | 38.25
| Zavala | 47.16
Utah | Beaver | 26.42
| Box Elder | 18.20
| Cache | 57.37
| Carbon | 14.70
| Daggett | 32.97
| Davis | 110.70
| Duchesne | 11.59
| Emery | 24.94
| Garfield | 37.12
| Grand | 9.78
| Iron | 23.21
| Juab | 15.75
| Kane | 21.53
| Millard | 24.25
| Morgan | 26.12
| Piute | 24.70
| Rich | 10.36
| Salt Lake | 114.93
| San Juan | 4.36
| Sanpete | 33.48
| Sevier | 50.83
| Summit | 38.76
| Tooele | 16.32
| Uintah | 7.48
| Utah | 103.68
| Wasatch | 65.97
| Washington | 44.36
| Wayne | 53.88
| Weber | 110.63
Vermont | Addison | 93.40
| Bennington | 133.48
| Caledonia | 89.37
| Chittenden | 178.88
| Essex | 54.78
| Franklin | 87.35
| Grand Isle | 120.54
| Lamoille | 97.63
| Orange | 103.09
| Orleans | 75.84
| Rutland | 77.33
| Washington | 119.95
| Windham | 140.34
| Windsor | 108.25
Virginia | Accomack | 120.54
| Albemarle | 279.38
| Alleghany | 119.05
| Amelia | 87.38
| Amherst | 131.44
| Appomattox | 87.38
| Arlington | 8,416.52
| Augusta | 197.68
| Bath | 103.85
| Bedford | 124.24
| Bland | 97.33
| Botetourt | 118.57
| Brunswick | 71.00
| Buchanan | 68.29
| Buckingham | 105.38
| Campbell | 87.16
| Caroline | 104.39
| Carroll | 90.92
| Charles City | 95.26
| Charlotte | 74.03
| Chesapeake City | 165.17
| Chesterfield | 260.29
| Clarke | 199.00
| Craig | 84.45
| Culpeper | 162.31
| Cumberland | 107.49
| Dickenson | 79.65
| Dinwiddie | 86.65
| Essex | 90.21
| Fairfax | 474.66
| Fauquier | 207.84
| Floyd | 107.38
| Fluvanna | 121.87
| Franklin | 101.73
| Frederick | 204.00
| Giles | 86.79
| Gloucester | 133.22
| Goochland | 153.36
| Grayson | 117.35
| Greene | 184.46
| Greensville | 76.60
| Halifax | 74.87
| Hanover | 142.21
| Henrico | 171.32
| Henry | 83.63
| Highland | 90.32
| Isle of Wight | 104.90
| James City | 285.63
| King and Queen | 95.38
| King George | 144.35
| King William | 114.27
| Lancaster | 119.67
| Lee | 74.73
| Loudoun | 277.24
| Louisa | 139.89
| Lunenburg | 75.24
| Madison | 168.02
| Mathews | 120.83
| Mecklenburg | 78.06
| Middlesex | 112.04
| Montgomery | 136.75
| Nelson | 143.28
| New Kent | 151.19
| Northampton | 129.50
| Northumberland | 84.90
| Nottoway | 89.64
| Orange | 177.85
| Page | 184.01
| Patrick | 78.38
| Pittsylvania | 80.07
| Powhatan | 149.66
| Prince Edward | 80.44
| Prince George | 107.52
| Prince William | 302.03
| Pulaski | 99.36
| Rappahannock | 194.63
| Richmond | 111.70
| Roanoke | 162.20
| Rockbridge | 138.90
| Rockingham | 249.78
| Russell | 81.62
| Scott | 74.48
| Shenandoah | 166.18
| Smyth | 82.75
| Southampton | 87.19
| Spotsylvania | 159.21
| Stafford | 370.10
| Suffolk | 116.56
| Surry | 95.43
| Sussex | 78.38
| Tazewell | 77.27
| Virginia Beach City | 272.49
| Warren | 213.18
| Washington | 142.29
| Westmoreland | 105.40
| Wise | 87.47
| Wythe | 110.74
| York | 341.60
Washington | Adams | 26.38
| Asotin | 24.44
| Benton | 72.01
| Chelan | 284.48
| Clallam | 235.88
| Clark | 165.26
| Columbia | 30.07
| Cowlitz | 165.42
| Douglas | 21.80
| Ferry | 9.57
| Franklin | 84.88
| Garfield | 29.06
| Grant | 63.20
| Grays Harbor | 44.24
| Island | 202.81
| Jefferson | 140.60
| King | 651.13
| Kitsap | 649.57
| Kittitas | 76.24
| Klickitat | 32.84
| Lewis | 110.85
| Lincoln | 22.57
| Mason | 158.16
| Okanogan | 22.30
| Pacific | 63.99
| Pend Oreille | 49.23
| Pierce | 396.98
| San Juan | 174.70
| Skagit | 187.13
| Skamania | 223.19
| Snohomish | 357.11
| Spokane | 68.87
| Stevens | 28.98
| Thurston | 219.46
| Wahkiakum | 88.76
| Walla Walla | 46.75
| Whatcom | 310.23
| Whitman | 32.25
| Yakima | 50.89
West Virginia | Barbour | 66.22
| Berkeley | 151.70
| Boone | 66.33
| Braxton | 58.25
| Brooke | 80.12
| Cabell | 101.08
| Calhoun | 51.70
| Clay | 48.84
| Doddridge | 60.38
| Fayette | 82.61
| Gilmer | 37.35
| Grant | 74.36
| Greenbrier | 73.91
| Hampshire | 85.19
| Hancock | 129.72
| Hardy | 91.12
| Harrison | 71.01
| Jackson | 62.70
| Jefferson | 166.56
| Kanawha | 110.07
| Lewis | 61.26
| Lincoln | 52.27
| Logan | 70.16
| Marion | 84.06
| Marshall | 73.37
| Mason | 68.91
| McDowell | 175.72
| Mercer | 71.33
| Mineral | 79.07
| Mingo | 31.65
| Monongalia | 128.47
| Monroe | 75.49
| Morgan | 148.44
| Nicholas | 74.16
| Ohio | 102.78
| Pendleton | 63.81
| Pleasants | 65.45
| Pocahontas | 53.18
| Preston | 77.91
| Putnam | 81.28
| Raleigh | 105.19
| Randolph | 68.77
| Ritchie | 51.19
| Roane | 54.73
| Summers | 64.43
| Taylor | 87.21
| Tucker | 81.19
| Tyler | 54.25
| Upshur | 75.01
| Wayne | 56.98
| Webster | 65.20
| Wetzel | 54.65
| Wirt | 51.27
| Wood | 94.52
| Wyoming | 94.92
Wisconsin | Adams | 125.67
| Ashland | 62.54
| Barron | 95.71
| Bayfield | 61.34
| Brown | 237.81
| Buffalo | 110.30
| Burnett | 76.23
| Calumet | 220.43
| Chippewa | 99.63
| Clark | 113.60
| Columbia | 163.15
| Crawford | 89.02
| Dane | 230.65
| Dodge | 163.60
| Door | 133.17
| Douglas | 54.90
| Dunn | 100.81
| Eau Claire | 127.85
| Florence | 70.74
| Fond du Lac | 203.66
| Forest | 67.92
| Grant | 132.05
| Green | 151.93
| Green Lake | 160.13
| Iowa | 136.17
| Iron | 95.21
| Jackson | 106.38
| Jefferson | 172.28
| Juneau | 103.69
| Kenosha | 212.06
| Kewaunee | 157.33
| La Crosse | 139.61
| Lafayette | 167.32
| Langlade | 91.60
| Lincoln | 90.73
| Manitowoc | 191.04
| Marathon | 133.00
| Marinette | 108.54
| Marquette | 116.91
| Menominee | 48.60
| Milwaukee | 249.94
| Monroe | 111.05
| Oconto | 116.63
| Oneida | 113.80
| Outagamie | 201.76
| Ozaukee | 183.48
| Pepin | 108.45
| Pierce | 129.34
| Polk | 99.02
| Portage | 114.78
| Price | 68.84
| Racine | 215.05
| Richland | 93.95
| Rock | 184.46
| Rusk | 69.57
| Sauk | 117.77
| Sawyer | 72.59
| Shawano | 130.51
| Sheboygan | 184.60
| St. Croix | 131.24
| Taylor | 82.16
| Trempealeau | 110.80
| Vernon | 108.73
| Vilas | 165.53
| Walworth | 194.09
| Washburn | 87.57
| Washington | 197.45
| Waukesha | 154.17
| Waupaca | 126.42
| Waushara | 118.45
| Winnebago | 195.15
| Wood | 92.69
Wyoming | Albany | 11.20
| Big Horn | 24.34
| Campbell | 8.67
| Carbon | 8.42
| Converse | 8.10
| Crook | 14.99
| Fremont | 19.51
| Goshen | 13.20
| Hot Springs | 9.51
| Johnson | 9.01
| Laramie | 12.99
| Lincoln | 28.00
| Natrona | 6.95
| Niobrara | 9.60
| Park | 22.88
| Platte | 13.45
| Sheridan | 18.75
| Sublette | 25.29
| Sweetwater | 4.53
| Teton | 62.02
| Uinta | 16.42
| Washakie | 17.90
| Weston | 10.25

[FR Doc. 2024-01547 Filed 1-26-24; 8:45 am]

BILLING CODE 6717-01-P